DEPARTMENT OF THE INTERIOR

National Park Service

National Capital Region

ACTION: Notice/Request for Comments—The Christmas Pageant of Peace.

SUMMARY: The National Park Service is seeking public comments and suggestions on the planning of the 2005 Christmas Pageant of Peace.

SUPPLEMENTARY INFORMATION: The National Park Service is seeking public comments and suggestions on the planning of the 2005 Christmas Pageant of Peace, which opens on December 1, 2005, on the Ellipse (President's Park), south of the White House. The meeting will be held at 10:30 a.m. on November 3, 2005, in Room 234 of the National Capital Region Headquarters Building, at 1100 Ohio Drive, SW., Washington, DC (East Potomac Park).

Persons who would like to comment at the meeting should notify the National Park Service by October 31, 2005 by calling the White House Visitor Center weekdays between 9 a.m., and 4 p.m., at (202) 208-1631. Written comments may be sent to the Park Manager, White House Visitor Center, 1100 Ohio Drive, SW., Washington, DC 20242, and will be accepted until November 3, 2005.

DATES: The meeting will be held on November 3, 2005. Written comments will be accepted until November 3, 2005.

ADDRESSES: The meeting will be held at 10:30 a.m. on November 3, 2005, in room 234 of the National Capital Region Headquarters Building, at 1100 Ohio Drive, SW., Washington, DC (East Potomac Park). Written comments may be sent to the Park Manager, White House Visitor Center, 1100 Ohio Drive, SW., Washington, DC 20242. Due to delays in mail delivery, it is recommended that comments be provided by telefax at 202-208-1643 or by e-mail at John_Stanwich@nps.gov. Comments may also be delivered by messenger to the White House Visitor Center at 1450 Pennsylvania Avenue, NW., in Washington, DC.

FOR FURTHER INFORMATION CONTACT: John Stanwich at the White House Visitor Center weekdays between 9 a.m., and 4 p.m., at (202) 208-1631.

Dated: September 19, 2005.
Maria Santo,
Deputy NPS Liaison to the White House.

National Park Service

Briefing Statement

September 19, 2005.

Unit: NPS Liaison to the White House, National Capital Region, National Park Service.

Title: Federal Register Meeting Notice/Request for Comments—The Christmas Pageant of Peace.

Congressional Districts: District of Columbia (Hon. Eleanor Holmes Norton).

Issues: The National Park Service is seeking public comments and suggestions on the planning of the 2005 Christmas Pageant of Peace.

The Pageant of Peace opens on December 1, 2005, on the ellipse (President's Park), south of the white House. Integral to the planning of the program for the Pageant of Peace, annual meetings are held to solicit comments and suggestions from the public. The meeting this year will be held at 10:30 a.m. on November 3, 2005, in Room 234 of the National Capital Region Headquarters Building in Washington, DC.

Contact: Maria Santo, Deputy NPS Liaison to the White House, National Capital Region, National Park Service (202) 619-6344.

[FR Doc. 05-19958 Filed 10-4-05; 8:45 am]

BILLING CODE 4312-52-M